DEPARTMENT OF THE INTERIOR

Bureau of Land Management

[LLMTL01000-L161000000.PN0000-223; MO #4500161643; MTM-89170-02]

Notice of Proposed Withdrawal and Public Meeting; Montana

AGENCY: Bureau of Land Management, Interior.

ACTION: Notice of proposed withdrawal.

SUMMARY: The Secretary of the Interior proposes to withdraw 912.33 acres of public lands in Phillips County, Montana, from appropriation under the public land laws, including location and entry under the United States mining laws, but not from the mineral leasing or the mineral materials disposal laws for up to 20 years, subject to valid existing rights, to protect the Zortman-Landusky Mine reclamation site. Publication of this notice segregates the lands from the laws specified for up to 2 years, subject to valid existing rights. This notice initiates a 90-day public comment period and announces an opportunity to participate in a virtual public meeting.

DATES: Comments must be received by September 6, 2022.

A virtual (online) public meeting in connection with the withdrawal application and segregation will be held on June 21, 2022, at 4:00 p.m. Mountain Time.

ADDRESSES: All comments should be sent to: Malta Field Office, Attn: Field Manager, 501 South 2nd St East, Malta, Montana 59538; or sent by email to mrlee@blm.gov. The Bureau of Land Management (BLM) will not consider comments received via telephone.

The virtual meeting will be held via Zoom at https://blm.zoomgov.com/j/1616502018?pwd=d1hHenZNdnk2ZmhqY0tPaFUxMUFaUT09. Meeting ID: 161 650 2018. Passcode: 544914. Or call 833-568-8864 US Toll-free.

FOR FURTHER INFORMATION CONTACT: Micah Lee, Realty Specialist, Havre Field Office, BLM Montana/Dakotas, telephone: (406) 262-2851, email: mrlee@blm.gov; or you may contact the BLM office at the address noted earlier. Persons in the United States who are deaf, deafblind, hard of hearing, or have a speech disability may dial 7-1-1 (TTY, TDD, or Tele Braille) to access telecommunications relay services to contact Ms. Lee. Individuals outside the United States should use the relay services offered within their country to make international calls to the point-of-contact in the United States.

SUPPLEMENTARY INFORMATION: The applicant is the BLM and its petition/application requests the Secretary of the Interior to withdraw the following-described public lands from appropriation under the public land laws, including location and entry under the United States mining laws, but not from leasing under the mineral leasing and mineral materials disposal laws, subject to valid existing rights, to protect the Zortman-Landusky Mine area and to facilitate reclamation and stabilization for a 20-year term.

Principal Meridian, Montana

T. 25 N., R. 24 E.,

sec. 1, lots 14 and 15;

sec. 11, lot 9;

sec. 12, lots 11, 12, 13, 17, and 25;

sec. 13, NE¼NE¼;

sec. 14, lot 3;

sec. 21, NE¼NE¼;

sec. 22, SE¼SW¼SW¼, S½SE¼SW¼, NE¼SE¼, E½SE¼SE¼, NW¼SE¼SE¼, E½SW¼SE¼SE¼, and NW¼SW¼SE¼SE¼;

sec. 23, E½NE¼.

T. 25 N., R. 25 E.,

sec. 6, lots 13 thru 16, lot 18, NE¼SW¼, and SE¼;

sec. 16, lot 2, N½NW¼SW¼, N½SE¼NW¼SW¼, S½SW¼SW¼SW¼, S½SE¼SW¼SW¼, NE¼SE¼SW¼, S½SE¼SW¼, and SW¼SE¼;

sec. 17, NE¼NE¼, SW¼NE¼NW¼SE¼, S½NW¼NW¼SE¼, SW¼NW¼SE¼, W½SE¼NW¼SE¼, W½NE¼SW¼SE¼, W½SW¼SE¼, SE¼SW¼SE¼, and S½SE¼SE¼.

The areas described aggregate 912.33 acres.

The BLM petition/application has been approved by the Secretary of the Interior and therefore it constitutes a withdrawal proposal of the Secretary of the Interior (43 CFR 2310.1-3(e)).

The use of a right-of-way, interagency agreement, or cooperative agreement would not provide adequate protection of the Federal investment in the mine reclamation work located on the lands.

No additional water rights will be needed to fulfill the purpose of this new withdrawal.

There are no suitable alternative sites to facilitate mining reclamation since the location of the mines and necessary reclamation materials are fixed.

Before including your address, phone number, email address, or other personal identifying information in your comment, you should be aware that your entire comment, including your personal identifying information, may be made publicly available at any time. While you can ask us in your comment to withhold your personal identifying information from public review, we cannot guarantee that we will be able to do so.

For a period until June 6, 2024 including location and entry under the United States mining laws, but not from leasing under the mineral leasing and mineral materials disposal laws, subject to valid existing rights, unless the application is denied or canceled, or the withdrawal is approved prior to that date. The BLM is preparing an environmental assessment evaluating the environmental consequences of a similar withdrawal of 2,688.13 acres proposed to protect the Zortman-Landusky Mine reclamation site, announced in the Federal Register on October 7, 2020 (85 FR 63289), and is including evaluation of the withdrawal proposed here in that analysis. Information regarding both proposed withdrawals, including environmental and other reviews, will be available at the Montana/Dakotas State Office and on the BLM's ePlanning site at https://eplanning.blm.gov/eplanning-ui/project/2003949/510.

Licenses, permits, cooperative agreements, or discretionary land use authorizations of a temporary nature that will not significantly impact the values to be protected by the withdrawal may be allowed with the approval of the authorized officer of the BLM during the temporary segregation period.

The application will be processed in accordance with the regulations set-forth in 43 CFR 2300.

Theresa M. Hanley,
Acting Montana/Dakotas State Director.

[FR Doc. 2022-12103 Filed 6-3-22; 8:45 am]

BILLING CODE 4310-DN-P